DEPARTMENT OF COMMERCE

International Trade Administration

International Buyer Program; Support for Domestic Trade Shows

AGENCY: International Trade Administration, Department of Commerce.

ACTION: Notice and call for applications for the International Buyer Program for the period January 1, 2008 through December 31, 2008.

SUMMARY: This notice sets forth objectives, procedures and application review criteria associated with support for domestic trade shows by the International Buyer Program of the United States and Foreign Commercial Service, International Trade Administration, U.S. Department of Commerce (DOC). This announcement covers selection for International Buyer Program participation for Calendar Year 2008 (January 1, 2008 through December 31, 2008).

The International Buyer Program (IBP) was established to bring international buyers together with U.S. firms by promoting leading U.S. trade shows in industries with high export potential. The International Buyer Program emphasizes cooperation between the DOC and trade show organizers to benefit U.S. firms exhibiting at selected events and provides practical, hands-on assistance such as export counseling and market analysis to U.S. firms interested in exporting. The assistance provided to show organizers includes worldwide overseas promotion of selected shows to potential international buyers, end-users, representatives and distributors. The worldwide promotion is executed through the offices of the United States and Foreign Commercial Service (hereinafter referred to as the Commercial Service) in more than 70 countries representing the United States' major trading partners, and also in U.S. Embassies in countries where the Commercial Service does not maintain offices. The Department expects to select approximately 35 shows for the January 1, 2008 through December 31, 2008 period from among applicants to the program. Shows selected for the International Buyer Program will provide a venue for U.S. firms interested in expanding their sales into international markets. Successful show organizer applicants will be required to enter into a Memorandum of Agreement (MOA) with the DOC. The MOA constitutes an agreement between the DOC and the show organizer specifying which responsibilities are to be undertaken by DOC as part of the IBP and, in turn, which responsibilities are to be undertaken by the show organizer. Anyone requesting application information will be sent a sample copy of the MOA along with the application and a copy of this Federal Register Notice. The responsibilities to be undertaken by DOC will be carried out by the Commercial Service, the lead agency for this program.

DATES: Applications must be received by 5 p.m. local time November 6, 2006. To avoid delays, applications should be sent via express mail due to the irradiation of regular mail addressed to the DOC Herbert Clark Hoover Building (HCHB) location.

ADDRESSES: International Buyer Program, Trade Promotion Programs, U.S. and Foreign Commercial Service, International Trade Administration, U.S. Department of Commerce, 14th & Constitution Avenue, NW., HCHB 2110, Washington, DC 20230. Telephone: (202) 482-3334.

FOR FURTHER INFORMATION CONTACT: Joseph J. English, Acting Program Manager, International Buyer Program, HCHB 2110, Trade Promotion Programs, U.S. and Foreign Commercial Service, International Trade Administration, U.S. Department of Commerce, 14th & Constitution Avenue, NW., Washington, DC 20230. Telephone (202) 482-3334; Fax: (202) 482-0115; E-mail: Josesph.English@mail.doc.gov.

SUPPLEMENTARY INFORMATION: The Commercial Service is accepting applications for the International Buyer Program for events taking place between January 1, 2008, and December 31, 2008.

Under the IBP, the Commercial Service seeks to bring together international buyers with U.S. firms by selecting and promoting in international markets U.S. domestic trade shows covering industries with high export potential. Selection of a trade show is valid for one event, i.e., a trade show organizer seeking selection for a recurring event must submit a new application for selection for each occurrence of the event. Even if the event occurs more than once in the 12-month period covered by this announcement, the trade show organizer must submit a separate application for each event.

The Commercial Service will select approximately 35 events for support between January 1, 2008 and December 31, 2008. The Commercial Service will select those events that, in its judgment, most clearly meet the Commercial Service's statutory mandate to promote U.S. exports, especially those of small- and medium-sized enterprises, and that best meet the selection criteria articulated below.

The Commercial Service selects trade shows to be International Buyer Program partners that it determines to be leading international trade shows appropriate for participation by U.S. exporting firms and for promotion in overseas markets by U.S. Embassies and Consulates. Selection as an International Buyer Program partner does not constitute a guarantee by the U.S. Government of the show's success. International Buyer Program partnership status is not an endorsement of the show organizer except as to its international buyer activities. Non-selection should not be viewed as a finding that the event will not be successful in the promotion of U.S. exports.

A participation fee of $8,000 is required for shows of five days or less and having only one International Business Center. For shows more than five days but less than ten days in duration, and/or requiring two International Business Centers, a participation fee of $14,000 is required. For shows ten days or more in duration and/or requiring more than two IBCs, the participation fee will be negotiated, but shall not be less than $19,500. Participation fees are for shows selected and promoted during the period between January 1, 2008 and December 31, 2008. The participation fee is not an application fee.

Exclusions: Trade shows that are either first-time or horizontal (non-industry specific) events will not be considered.

General Selection Criteria: The Department will select shows to be International Buyer Program partners that, in the judgment of the Department, best meet the following criteria:

(a) Intellectual Property Rights Protection: The trade show organizer cooperates with DOC's Intellectual Property Rights Initiative by including in the terms and conditions of its exhibitor contracts provisions for the protection of intellectual property rights (IPR); has procedures in place at the trade show to address IPR infringement, which, at a minimum, provides information to help U.S. exhibitors procure legal representation during the trade show; and agrees to assist DOC in reaching and educating U.S. exhibitors on the Strategy Targeting Organized Piracy (STOP!), IPR protection measures available during the show, and the means to protect IPR in overseas markets, as well as in the United States.

(b) Export Potential: The trade show promotes products and services from U.S. industries that have high export potential, as determined by DOC sources, e.g., Commercial Service best prospects lists and U.S. export statistics (certain industries are rated as priorities by our domestic and international commercial officers in their Country Commercial Guides. Export statistics, Country Commercial Guides and more are available at http://www.export.gov.

(c) International Interest: The trade show meets the needs of a significant number of overseas markets and corresponds to marketing opportunities as identified by the posts in the Country Commercial Guides (e.g. best prospect lists). Previous international attendance at the show may be used as an indicator.

(d) Scope of Show: The event must offer a broad spectrum of U.S. made products and services for the subject industry. Trade shows with a majority of U.S. firms as exhibitors are given priority.

(e) U.S. Content of Show Exhibitors: Trade shows with exhibitors featuring a high percentage of U.S. products or products with a high degree of U.S. content will be preferred. In accordance with DOC policy, to have “U.S. content” products and services included in the Export Interest Directory must be either: (i) produced or manufactured in the United States; or, (ii) if produced or manufactured outside of the United States, be marketed under the name of a U.S. firm and have U.S. content representing at least 51 percent of the value of the finished product or service being exported. U.S.-sourced inputs that may be considered as contributing to U.S. content, to the extent that they are incorporated into the finished product or service being exported, may include but are not limited to: materials; components; packaging; labor; production equipment and factory overhead; research & development; design; intellectual property; warehousing; distribution; sales; administration & management; advertising; and marketing and promotion.

(f) Stature of Show: The trade show must be clearly recognized in the industry it represents as a leading event for the promotion of the products and services of that industry both domestically and internationally. It should serve as a showplace for the latest technology or techniques employed within the sector.

(g) Exhibitor Interest: Show Organizers must demonstrate interest on the part of U.S. exhibitors to receive international visitors during the event by providing historical data regarding the number of international attendees and the number of countries represented at prior prensentations of the event. A significant number of the event's U.S. exhibitors should be New-To-Export (NTE) or seeking to expand their distribution into new export markets.

(h) Overseas Marketing: There has been a demonstrated effort to market prior shows overseas. In addition, the applicant should describe in detail the international marketing program to be conducted for the event, explaining how efforts should increase individual and group international attendance. (Planned cooperation with Visit USA Committees overseas is desirable. For more information on Visit USA Committees go to http://www.tia.org/marketing/visit_usa_committees.html.)

(i) Logistics: The site, facilities, transportation services, and availability of accommodations at the site of the exhibition must be capable of accommodating large numbers of attendees whose native language will be other than English.

(j) Delegation Incentives: Show Organizers should list or identify a range of incentives to be offered to delegations and/or delegation leaders recruited by Commercial Service overseas posts. Examples of incentives to international visitors and to organized delegations include, but are not limited to: Waived or reduced admission fees; Special events, such as receptions, meetings with association executives, briefings, and site tours; and complimentary accommodations for leaders.

(k) Cooperation: Successful applicants must enter into a Memorandum of Agreement (MOA) that sets forth the specific actions to be performed by the show organizer and the Department of Commerce. The show organizer must be willing to cooperate with the Commercial Service and the International Buyer Program to further the program's goals and adhere to the target dates listed in the MOA and in the event timetables. Past experience of show organizers who have participated in the IBP is taken into account in evaluating the current application to the program.

How to Apply: Interested show organizers [Note: should capitalize or not capitalize “show organizer” consistently.] can obtain information and application materials from the point of contact listed under FOR FURTHER INFORMATION CONTACT at the beginning of this notice. Anyone requesting application information will be sent a sample copy of the MOA along with the application and a copy of this Federal Register Notice. Applications should be sent via express mail to avoid delays due to the irradiation of regular mail addressed to the DOC Herbert Clark Hoover Building (HCHB) location.

All applications must be received by 5 p.m. local time on November 6, 2006. For deadline purposes, facsimile or e-mail applications will be accepted; however, paper copies of the signed original applications must be received within five business days after the deadline date. Late applications will not be considered.

Legal Authority: The Commercial Service is authorized to conduct the International Buyer Program under 15 U.S.C. 4724. The Commercial Service has the legal authority to enter into MOAs with show organizers (partners) under the provisions of the Mutual Educational and Cultural Exchange Act of 1961 (MECEA), as amended (22 U.S.C. Sections 2455(f) and 2458 (c)). MECEA allows the Commercial Service to accept contributions of funds and services from firms for the purposes of furthering its mission.

Information Collection Requirements: The Office of Management and Budget (OMB) has approved the information collection requirements of the application to this program under the provisions of the Paperwork Reduction Act of 1995 (44 U.S.C. 3501 et seq.) (OMB Control No. 0625-0151). Notwithstanding any other provision of law, no person is required to respond to, nor shall a person be subject to a penalty for failure to comply with a collection of information subject to the requirements of the Paperwork Reduction Act, unless that collection of information displays a currently valid OMB Control Number.

Signed: August 3, 2006.
Todd Thurwachter,
Director, Office of Trade Event Programs, U.S. and Foreign Commercial Service, International Trade Administration, U.S. Department of Commerce.

[FR Doc. E6-14652 Filed 9-5-06; 8:45 am]

BILLING CODE 3510-FP-P